NATIONAL AERONAUTICS AND SPACE ADMINISTRATION

[Notice (14-087)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 11, 2014.

FOR FURTHER INFORMATION CONTACT: Robin W. Edwards, Patent Counsel, Langley Research Center, Mail Stop 30, Hampton, VA 23681-2199; telephone (757) 864-3230; fax (757) 864-9190.

NASA Case No.: LAR-18411-1: Impact Tester Device;

NASA Case No.: LAR-17997-1: Sequential/Simultaneous Multi-Metalized Nanocomposites (S2M2N);

NASA Case No.: LAR-18133-1: Integrated Multi-Color Light Emitting Device Made with Hybrid Crystal Structure;

NASA Case No.: LAR-18319-1: Acoustic Panel Liner for an Engine Nacelle;

NASA Case No.: LAR-17558-2: Highly Thermal Conductive Nanocomposites;

NASA Case No.: LAR-18082-1: 3D Biomimetic Platform;

NASA Case No.: LAR-18352-1: Fluorinated Alkyl Ether Epoxy Resin Compositions and Applications Thereof;

NASA Case No.: LAR-18202-2: Method for Ground-to-Satellite Laser Calibration System;

NASA Case No.: LAR-17689-2: Negative Dielectric Constant Material Based on Ion Conducting Materials.

Sumara M. Thompson-King,
General Counsel.

[FR Doc. 2014-21609 Filed 9-10-14; 8:45 am]

BILLING CODE 7510-13-P